ENVIRONMENTAL PROTECTION AGENCY

[EPA-HQ-OPP-2009-0317; FRL-9955-18]

Registration Review; Draft Malathion Human Health Risk Assessment; Extension of Comment Period

AGENCY: Environmental Protection Agency (EPA).

ACTION: Notice; extension of comment period.

SUMMARY: EPA issued a notice in the Federal Register of September 22, 2016 (81 FR 65355) (FRL-9952-53), opening a 60-day comment period for the draft malathion human health risk assessment. This document extends that comment period for 30 days. The new closing date will be December 21, 2016 rather than November 21, 2016. The comment period is being extended in response to a request from FMC Corporation citing the scope and complexity of the assessments, including the use of new models, risk assessment approaches, and science policy issues that require additional review time.

DATES: Comments, identified by docket identification (ID) number EPA-HQ-OPP-2009-0317, must be received on or before December 21, 2016.

ADDRESSES: Follow the detailed instructions provided under ADDRESSES in the Federal Register document of September 22, 2016.

FOR FURTHER INFORMATION CONTACT: Richard Dumas, Pesticide Re-Evaluation Division (7508P), Office of Pesticide Programs, Environmental Protection Agency, 1200 Pennsylvania Ave. NW., Washington, DC 20460-0001; telephone number: (703) 308-8015; email address: dumas.richard@epa.gov.

SUPPLEMENTARY INFORMATION: This document extends the public comment period established in the Federal Register document of September 22, 2016. In that document, EPA opened a 60-day comment period for a draft human health risk assessment for the registration review of malathion. EPA is hereby extending the closing date of the comment period by 30 days from November 21, 2016, to December 21, 2016.

To submit comments, or access the docket, please follow the detailed instructions provided under ADDRESSES in the Federal Register document of September 22, 2016. If you have questions, consult the person listed under FOR FURTHER INFORMATION CONTACT.

Authority: 7 U.S.C. 136 et seq.

Dated: November 10, 2016.
Linda Arrington,
Acting Director, Pesticide Re-evaluation Division, Office of Pesticide Programs.

[FR Doc. 2016-27867 Filed 11-17-16; 8:45 am]

BILLING CODE 6560-50-P